Proclamation 8069 of October 12, 2006

White Cane Safety Day, 2006

By the President of the United States of America

A Proclamation

Our Nation believes in the promise of all our citizens, and we must work to ensure that the opportunities of America are more accessible to every person. Many Americans who are blind or visually impaired use white canes to enable them to enjoy greater mobility, engage in productive work, and participate fully in all aspects of life. On White Cane Safety Day, we celebrate the many achievements of Americans who are blind or visually impaired, and we recognize the white cane as an important symbol of their determination and independence.

My Administration remains committed to removing barriers that confront Americans with disabilities. Since we launched the New Freedom Initiative 5 years ago, we have worked to improve access to community life, expand educational opportunities, strengthen training and employment services, and promote the development of technology for people with disabilities. We are building on the progress of the Americans with Disabilities Act and working to make America a place where all citizens have the opportunity to realize their full potential.

The Congress, by joint resolution (Public Law 88-628) approved on October 6, 1964, as amended, has designated October 15 of each year as “White Cane Safety Day.”

NOW, THEREFORE, I, GEORGE W. BUSH, President of the United States of America, do hereby proclaim October 15, 2006, as White Cane Safety Day. I call upon public officials, business leaders, educators, librarians, and all the people of the United States to join as we work to ensure that the benefits and privileges of life in our great Nation are available to Americans who are blind or visually impaired, and to observe this day with appropriate ceremonies, activities, and programs.

IN WITNESS WHEREOF, I have hereunto set my hand this twelfth day of October, in the year of our Lord two thousand six, and of the Independence of the United States of America the two hundred and thirty-first.

[FR Doc. 06-8760

Filed 10-16-06; 8:51 am]

Billing code 3195-01-P